DEPARTMENT OF COMMERCE

International Trade Administration

Amendment to the Antidumping Suspension Agreement on Certain Cut-to-Length Carbon Steel Plate Between the United States Department of Commerce and the Government of Ukraine

The United States Department of Commerce (the Department) and the Government of Ukraine hereby amend Section XII of the Agreement Suspending the Antidumping Investigation on Certain Cut-to-Length Carbon Steel Plate from Ukraine (the Agreement), signed October 24, 1997, by adding the following language immediately after the second sentence of Section XII of the Agreement, as amended on December 20, 2002:

In order to provide for the continuation of exports of cut-to-length plate from Ukraine to the United States following the expiration of the one-year extension signed December 20, 2002, by the Department and the Government of Ukraine, the export limits provided for in Section III of this Agreement shall remain in force through November 1, 2004.

If, after said date, the underlying proceeding remains suspended, the Government of Ukraine and the Department will enter into consultations to agree upon export limits in order to permit future shipments under the Agreement.

For the United States Department of Commerce.
Dated: January 16, 2004.
James J. Jochum,
Assistant Secretary for Import Administration.
For the Ministry of Economy and for European Integration Issues of Ukraine.
Mykhailo B. Reznik,
Ambassador of Ukraine to the United States.

[FR Doc. 04-2865 Filed 2-9-04; 8:45 am]

BILLING CODE 3510-DS-P